DEPARTMENT OF HEALTH AND HUMAN SERVICES

Centers for Disease Control and Prevention

[60Day-09-09AQ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Behavioral Assessment and Rapid Testing Project (BART)—New—National Center for HIV/AIDS, Viral Hepatitis, Sexually Transmitted Diseases, and Tuberculosis Elimination Programs (NCHHSTP), Centers for Disease Control and Prevention (CDC).

Background and Brief Description

This project seeks to establish feasibility of collecting behavioral practices and performing rapid HIV tests. Such opportunities enable CDC to develop risk reduction interventions that are appropriate for the attendees of special events that attract persons who may be at high risk for HIV infection but who do not access the other services in their community. This collection consists of behavioral assessments and rapid HIV testing at a variety of events serving different minority and hard-to-reach populations at high risk for acquiring or transmitting HIV infection. A single protocol and one research agenda will be used in all settings.

This project will address the increasing rates of HIV infection among African Americans and men who have sex with men as well as the need for early detection and linkage to health care for HIV-infected persons. The proposed project addresses “Healthy People 2010” priority area(s) of identifying new HIV infections and is in alignment with NCHHSTP performance goal(s) to strengthen the national capacity to monitor the epidemic, develop and implement effective HIV prevention interventions, and evaluate prevention programs. A secondary purpose of BART is to decrease stigma associated with testing by increasing awareness, visibility and acceptability of public rapid testing programs.

A randomized convenience sample will be used to select attendees at (1) Gay Pride; (2) Minority Gay Pride; (3) black spring break; and (4) cultural and social events attracting large numbers of African Americans. Trained interviewers will select and approach event attendees. A screener questionnaire will be used to determine participation eligibility and obtain oral consent. Approximately 7,000 individuals will be approached to participate in the BART interview each year and participate in a two minute screener interview. Approximately 5,600 individuals are expected to be eligible and participate in BART interview each year. There is no cost to respondents other than their time.

Estimate of Annualized Burden Table
Types of data collection | Number of respondents | Number of responses per respondent | Average burden per response (in hours) | Total burden (in hour)
Screener | 7,000 | 1 | 2/60 | 233
Interview | 5,600 | 1 | 15/60 | 1,400
Total | 12,600 |  |  | 1,633

Maryam I. Daneshvar,
Acting Reports Clearance Officer, Centers for Disease Control and Prevention.

[FR Doc. E9-2611 Filed 2-6-09; 8:45 am]

BILLING CODE 4163-18-P